DEPARTMENT OF TRANSPORTATION

Federal Aviation Administration

14 CFR Part 71

[Docket No. FAA-2011-0232; Airspace Docket No. 11-AWA-3]

RIN 2120-AA66

Proposed Amendment to Class B Airspace; Seattle, WA

AGENCY: Federal Aviation Administration (FAA), DOT.

ACTION: Notice of proposed rulemaking (NPRM).

SUMMARY: This action proposes to modify Class B airspace in Seattle, WA to contain aircraft conducting Instrument Flight Rules (IFR) approach procedures to Seattle-Tacoma International Airport (SEA). This action would further support the FAA's national airspace redesign goal of optimizing terminal and en route airspace areas to enhance safety, improving the flow of air traffic, and reducing the potential for near midair collision in the terminal area.

DATES: Comments must be received on or before August 16, 2011.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2011-0232 and Airspace Docket No. 11-AWA-3 at the beginning of your comments. You may also submit comments through the Internet at http://www.regulations.gov.

FOR FURTHER INFORMATION CONTACT: Ken McElroy, Airspace, Regulations and ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0232 and Airspace Docket No. 11-AWA-3) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2011-0232 and Airspace Docket No. 11-AWA-3.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/regulations_policies/rulemaking/recently_published/.

You may review the public docket containing the proposal, any comments received and any final disposition in person in the Dockets Office (see ADDRESSES section for address and phone number) between 9 a.m. and 5 p.m., Monday through Friday, except Federal holidays. An informal docket may also be examined during normal business hours at the office of the Western Service Center, Federal Aviation Administration, 1601 Lind Ave., SW., Renton, WA 98057.

Persons interested in being placed on a mailing list for future NPRMs should contact the FAA's Office of Rulemaking, (202) 267-9677, for a copy of Advisory Circular No. 11-2A, Notice of Proposed Rulemaking Distribution System, which describes the application procedure.

Background

In 1974, the FAA issued a final rule establishing the Seattle-Tacoma, WA, Terminal Control Area (38 FR 17250). As a result of the Airspace Reclassification final rule (56 FR 65638), which became effective in 1993, the terms “terminal control area” and “airport radar service area” were replaced by “Class B airspace area” and “Class C airspace area,” respectively. The primary purpose of a Class B airspace area is to reduce the potential for midair collisions in the airspace surrounding airports with high density air traffic operations by providing an area, in which all aircraft are subject to certain operating rules and equipment requirements.

In recent years, Seattle has completed construction projects that modernized the airport and added capacity at SEA. These projects included the construction of a new Runway 16 L/R and 34 L/R, which increased the lateral distance between runways and allows simultaneous arrival and departure operations under visual flight rules (VFR) and simultaneous approaches during IFR conditions. Operationally, using parallel dependent ILS approaches results in higher airport arrival acceptance rates during IFR minimums, but requires aircraft to be established on the final approach courses not less than 17 miles from the airport. During periods of moderate air traffic, this requirement quickly extends the final approach course to a distance greater than 22 miles from the airport, which places the aircraft on the approaches outside the confines of the current Seattle Class B airspace.

Since the Seattle Class B airspace area was established in 1974, SEA has experienced increased traffic levels, a considerably different fleet mix, and airport infrastructure improvements enabling simultaneous instrument approach procedures. For calendar year 2009, SEA documented 316,136 total operations and was rated number 16 among all Commercial Service Airports with 15,273,092 passenger enplanements. Under the current Class B airspace configuration, aircraft routinely enter, exit, and then reenter Class B airspace while flying published instrument approach procedures, which is contrary to FAA Order 7400.2, Procedures for Handling Airspace Matters. In addition, SEA now utilizes parallel dependent ILS approaches, which requires aircraft to be established on final at least 17 miles from the airport. This results in aircraft exceeding the lateral boundaries of the current Class B airspace by up to 5 to 10 miles during moderate levels of air traffic. FAA modeling of existing traffic flows has shown that expanded Class B airspace extensions would enhance safety by containing all instrument approach procedures and associated traffic patterns within the confines of Class B airspace, and better segregate IFR aircraft arriving/departing SEA and VFR aircraft operating in the vicinity of Seattle Class B airspace. The proposed Class B airspace modifications described in this NPRM are intended to address these issues.

Pre-NPRM Public Input

In 2010, the FAA initiated action to form an Ad Hoc Committee to provide comments and recommendations regarding the planned modifications to the Seattle Class B airspace area. The Washington State Department of Transportation chaired the Ad Hoc Committee; participants included representatives of air carrier, Aircraft Owners and Pilot Association, general aviation, corporate, helicopter, government agencies with aviation interests, military and law enforcement airspace users. The Ad Hoc Committee responded in July 2010 and provided a proposed modification of the Seattle Class B airspace area to the FAA Seattle Terminal Radar Approach Control Facility (TRACON).

In addition, and as announced in the Federal Register (75 FR 60352), three informal airspace meetings were held on December 9, 2010, at the Snohomish County Auditorium, Everett, WA; December 14, 2010, at the Highline Performing Arts Center, Burien, WA; and December 16, 2010, at the Theater at Auburn Mountainview, Auburn, WA.

These meetings provided interested airspace users with an opportunity to present their views and offer suggestions regarding the planned modification of the Seattle Class B airspace. All comments received as a result of the informal airspace meetings, along with the recommendations made by the Ad Hoc Committee, were considered in developing this proposal.

Ad Hoc Committee and Other Recommendations

The Ad Hoc Committee recommended a design with two ceilings: 7,000 feet MSL in the outer areas and 10,000 feet MSL for the inner areas. The FAA analyzed the recommendation and found that due to local terrain the recommendation had merit. Maintaining a classic Class B design similar to the current one would make the design more complex and use more airspace than necessary to protect SEA arrivals and departures.

In reaching this recommendation, the Ad Hoc Committee considered non-participating aircraft possibly crossing the ends of the airspace at 7,500 feet, but the presence of nonparticipating aircraft in close proximity to Class B airspace is not unique to SEA. Also, the committee discussed whether a non-traditional design might be confusing or difficult to navigate around, and concluded that it was not.

After the Ad Hoc Committee's report was submitted to the TRACON, Seattle TRACON recommended adding to the original proposal by expanding Area F from 2,000 feet to 10,000 feet to the northwest to cover Puget Sound west of Elliott Bay and the residential area over Magnolia Bluff. This would encompass the Boeing Field/King County International Airport (BFI) Instrument Landing System runway 13R final approach course in the Class B airspace. Numerous Traffic Alert and Collision Avoidance System (TCAS) events with large and heavy jet aircraft have been reported in this area.

Since BFI traffic is in close proximity to SEA traffic in a south flow, such TCAS events have immediate repercussions on SEA traffic, particularly if the aircraft responding to a TCAS Resolution Advisory climbs into the path of traffic on the SEA final. This situation impacts SEA traffic, and expanding the Class B airspace in this area may be a potential solution.

In the current Class B airspace configuration, the area over the water west of the northwest corner of Area D and Magnolia Bluff itself is beneath a 3,000 foot to 10,000 foot shelf. This proposal would lower the floor of Class B to 2,000 feet on either side of the BFI runway 13R final approach course. Area D over BFI would remain exactly the same as in the current airspace configuration.

Ninety-six comments were received during the public meetings requesting the elimination of the 2,000 foot proposal over Magnolia due to increased noise and air pollution. These comments also disagreed with the need to change airspace, argued the inconvenience of public meeting location, and contended that the airspace changes would increase aircraft noise disturbance to nesting birds. A petition from the Magnolia community was submitted with 862 signatures attached.

Based on the public comments received, the FAA concedes that effective alternatives exist for achieving the increased safety that was the objective of lowering the airspace floor. Therefore, the FAA intends to examine alternative, nonregulatory (procedural) means to reducing the TCAS events. The FAA will stress efforts toward increased enforcement and pilot education, and improved procedures, and, only if appropriate, pursue a regulatory solution in the Seattle Magnolia area.

Informal Airspace Meeting Comments

Several comments were received indicating a preference to retain the classic VOR radial/DME description methods for the Seattle Class B airspace area.

Initially, the FAA considered a classic description method but it would result in a design that used more airspace than necessary to contain SEA traffic. The primary description methodology is using geographic coordinates (latitude and longitude). Wherever possible, however, the airspace corners, intersections and more central, lower altitude pieces are described in multiple ways, including the VOR radial/DME method.

Three commenters requested a reduction in the Class B airspace around the Enumclaw glider area/Bergseth Airport (private).

The FAA agrees that the proposed airspace would cause a hardship for glider flights returning to the Bergseth Airport. The final proposed airspace has been adjusted to mitigate the impact.

Two commenters stated the proposed airspace design will “squeeze” or “trap” VFR aircraft on the edges of the Class B.

The FAA agrees with these comments, and the two areas specified—on the northeast and southeast corners of the proposed airspace—have been reshaped to mitigate this concern.

Two commenters believed the VFR corridors must be retained and usable.

The proposed design will require a slight modification to the VFR flyways.

The Proposal

The FAA is proposing an amendment to Title 14 Code of Federal Regulations (14 CFR) part 71 to modify the SEA Class B airspace area. This action (depicted on the attached chart) proposes to revise the Class B airspace while maintaining some existing features familiar to local users. Overall, it reduces the size of the Seattle Class B airspace by approximately 194 square miles. Containing two different ceiling altitudes, the Class B proposal expands the eastern boundary to ensure containment of turbojet aircraft, but eliminates excessive outer (arrival route) wings that currently extend to 30 nautical miles (NM). Where possible, this proposal also aligns certain Class B boundaries with existing Very High Frequency Omnidirectional Range Navigational Aids and geographical features resulting in improved boundary definition. This would make navigation around and through the airspace easier for a variety of aviation interests, even though it consists of primary boundary portrayal using latitude and longitude points (GPS waypoints). The following are the proposed revisions for each area of the SEA Class B airspace:

Area A. 2 NM arc northeast of SEA would be straightened and realigned with the border of Class D airspace. The area just south of SEA would be moved slightly to the west to better contain arrivals to SEA runway 34L/departures from 16R. This runway 34L/16R was recently constructed and commissioned in 2008. Its extended centerline to the south is just barely contained within the current Class B airspace. There is no other traffic in this area except SEA traffic.

Area B. No change.

Area C. Southeast corner would be moved to the west, and floor of airspace would be raised from 1,600 feet to 1,800 feet.

Area D. No change.

Area E. Southeast border of airspace would be moved slightly to the west.

Area F. No change.

Area G. 2 NM arc northeast of SEA would be straightened and realigned with the border of Class D airspace.

Area H. Entire airspace would be moved east slightly. Northern and southern boundaries are depicted as angles instead of curves.

Area I. Floor would be lowered to 4,000 feet. Area would be narrowed and described with straight lines instead of curved lines.

Area J. New area would join existing areas that had floors of 5,000 feet.

Area K. New area with floor of 5,000 feet.

Area L. Area would be narrowed and described with straight lines instead of curved lines.

Area M. Area would be expanded slightly on the northeast and southeast corners and described with straight lines instead of curved lines.

Area N. New area floor would be raised from 3,000 feet to 4,000 feet in part of area, and lowered from 5,000 feet to 4,000 feet in part of area. Boundary would be described by straight lines.

Area O. Area would be considerably smaller. Floor would be lowered from 6,000 feet to 5,000 feet in part of the area, and raised from 3,000 feet to 5,000 feet in part of area. Ceiling would be lowered from 10,000 feet to 7,000 feet.

Area P. Area would be considerably smaller. Floor would be lowered from 6,000 feet to 5,000 feet in part of the area and raised from 3,000 feet to 5,000 feet in part of area. Ceiling would be lowered from 10,000 feet to 7,000 feet.

Area Q. Area would be reshaped with straight lines instead of curved lines. Floor would be lowered from 6,000 feet and 8,000 feet to 5,000 feet. Ceiling would be lowered from 10,000 feet to 7,000 feet.

Area R. Size of area would be significantly reduced and described by straight lines instead of curved lines.

Area S. Area would be reshaped with straight lines instead of curved lines.

Area T. Area would be reshaped with straight lines instead of curved lines. Ceiling would be lowered from 10,000 feet to 7,000 feet. These changes are being proposed to ensure the containment of IFR aircraft within Class B airspace as required by FAA directives.

All radials listed in the SEA Class B airspace description in this NPRM are stated in degrees relative to both True North and Magnetic North.

Class B airspace areas are published in paragraph 3000 of FAA Order 7400.9U, dated August 18, 2010, and effective September 15, 2010, and incorporated by reference in 14 CFR 71.1. The Class B airspace area proposed in this document would be published subsequently in the Order.

Paperwork Reduction Act

The Paperwork Reduction Act of 1995 (44 U.S.C. 3507(d)) requires that the FAA consider the impact of paperwork and other information collection burdens imposed on the public. We have determined that there is no new information collection requirement associated with this proposed rule.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or Tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows.

After consultation with a diverse cross-section of stakeholders that participated in the Ad Hoc Committee to develop the recommendations contained in this proposal, and a review of the recommendations and comments, the FAA expects that this proposed rule would result in minimal cost. This proposed rule would enhance safety by containing all instrument approach procedures, and associated traffic patterns, within the confines of Class B airspace and better segregate IFR aircraft arriving/departing SEA and VFR aircraft operating in the vicinity of the Seattle Class B airspace.

This NPRM would enhance safety, reduce the potential for a midair collision in the Seattle area and would improve the flow of air traffic. As such, we estimate a minimal impact with substantial positive net benefits. The FAA requests comments with supporting justification about the FAA determination of minimal impact. The FAA has, therefore, determined that this proposed rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes the proposal would not have a significant economic impact on a substantial number of small entities as the economic impact is expected to be minimal. We request comments from the potentially affected small businesses.

Therefore, the FAA certifies that this proposed rule would not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and Tribal governments, in the aggregate, or by the private sector; such a mandate is deemed to be a “significant regulatory action.” The FAA currently uses an inflation-adjusted value of $143.1 million in lieu of $100 million. This proposed rule does not contain such a mandate; therefore, the requirements of Title II of the Act do not apply.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010, is amended as follows:

Paragraph 3000 Subpart B—Class B airspace.

* * * * *

ANM WA B Seattle, WA [Modified]

Seattle-Tacoma International Airport (Primary Airport)

(Lat. 47°27′00″ N., long. 122°18′42″ W.)

Seattle VORTAC (SEA)

(Lat. 47°26′07″ N., long. 122°18′35″ W.)

Boundaries

Area A. That airspace extending upward from the surface to and including 10,000 feet MSL within an area bounded by a line beginning at the 3.6-mile DME on the SEA 007°(T)/348°(M) radial to a point on the 4-mile arc of the sea 007°(T)/348°(M) radial, then counterclockwise along the 4-mile arc to the sea 326°(T)/306°(M) radial to the Puget Sound shoreline, then south along the Puget Sound shoreline to the 2-mile arc of the SEA VORTAC, then counterclockwise along the 2-mile arc of the SEA VORTAC to the sea 202°(T)/183°(M) radial extending to the 4-mile DME on the SEA 197°(T)/178°(M) radial, then extending to the 6-mile DME on the sea 192°(T)/173°(M) radial, then counterclockwise along the 6-mile arc of the SEA VORTAC to the SEA 163°(T)/144°(M) radial extending to the 4-mile DME on the SEA VORTAC 159°(T)/140°(M) radial, extending to the 2-mile arc of the SEA VORTAC 146°(T)/127°(M) radial, then counterclockwise along the 2-mile arc of SEA VORTAC to the SEA VORTAC 069°(T)/050°(M) radial to the point of beginning.

Area B. That airspace extending upward from 1,100 feet MSL to and including 10,000 feet MSL within an area bounded by a line beginning at the 4-mile DME point on the SEA 007°(T)/348°(M) radial extending to the 6-mile arc of the sea 007°(T)/348°(M) radial, then counterclockwise along the 6-mile arc of the SEA VORTAC to the SEA 342°(T)/323°(M) radial to the 4-mile arc of the SEA 342°(T)323°(M) radial, then clockwise along the 4-mile arc of the SEA VORTAC to the point of beginning.

Area C. That airspace extending upward from 1,800 feet MSL to and including 10,000 feet MSL within an area bounded by a line beginning at the 6-mile DME on the SEA 192°(T)/173°(M) radial to the 12-mile arc of the SEA 192°(T)/173°(M) radial, then counterclockwise along the 12-mile arc of the SEA VORTAC to the SEA 166°(T)/147°(M) radial extending to the 8-mile DME on the SEA 163°(T)/144°(M) radial to a point on the 6-mile arc of the SEA 163°(T)/144°(M) radial, then clockwise along the 6-mile arc of the SEA VORTAC to the point of beginning.

Area D. That airspace extending upward from 1,800 feet MSL to and including 10,000 feet MSL within an area bounded by a line beginning at the 6-mile arc of the SEA 007°(T)/348°(M) radial, then counterclockwise along the 6-mile arc of the SEA VORTAC to the SEA 342°(T)/323°(M) radial, then to the 12-mile arc of the SEA 342°(T)/323°(M) radial, then clockwise along the 12-mile arc of the SEA VORTAC to the SEA 007°(T)/348°(M) radial to the point of beginning.

Area E. That airspace extending upward from 2,000 feet MSL to and including 10,000 feet MSL within an area bounded by a line beginning at the 4-mile arc of the SEA 197°(T)/178°(M) radial, then clockwise along the 40-mile arc of the SEA VORTAC to the SEA 326°(T)/307°(M) radial, then south along the Puget Sound shoreline to the 2-mile arc of the SEA VORTAC then counterclockwise along the 2-mile arc of the SEA VORTAC to the SEA 202°(T)/183°(M) radial to the point of beginning.

Area F. That airspace extending upward from 2,000 feet MSL to and including 10,000 feet MSL within an area bounded by a line beginning at the 4-mile DME on the SEA 342°(T)/323°(M) radial extending north on the SEA 342°(T)/323°(M) radial to the Puget Sound shoreline, then south along the Puget Sound shoreline to the 4-mile DME on the SEA VORTAC 326°(T)/307°(M) radial, then clockwise along the 4-mile arc of SEA VORTAC to the point of beginning.

Area G. That airspace extending upward from 2,000 feet MSL to and including 10,000 feet MSL within an area bounded by a line beginning at the 3.6 DME on the SEA 007°(T)/348°(M) radial extending to the 12-DME on the SEA 007°(T)/348°(M) radial, then clockwise along the 12-mile arc of the SEA VORTAC to the SEA 022°(T)/003°(M) radial to the 4-mile arc of the SEA VORTAC, then clockwise along the 4-mile arc of the SEA VORTAC to the SEA 159°(T)/140°(M) radial to the 2-mile DME on the SEA VORTAC 146°(T)/127°(M) radial, then counterclockwise along the 2-mile arc to the SEA VORTAC 069°(T)/050°(M) radial to the point of beginning.

Area H. That airspace extending upward from 3,000 feet MSL to and including 10,000 feet MSL within an area bounded by a line beginning at the 20-mile DME on the SEA VORTAC 338°(T)/319°(M) radial east to the 20-mile DME on the SEA VORTAC 023°(T)/004°(M) radial, then southeast along the 16-mile DME on the SEA VORTAC 032°(T)/013°(M) radial south to the 12-mile DME on the SEA VORTAC 135°(T)/116°(M) radial, then southwest to the 18.3 mile DME on the SEA VORTAC 157°(T)/138°(M) west to the 18-mile DME on the SEA VORTAC 200°(T)/181°(M) radial, then northwest to the 15-mile DME on the SEA VORTAC 212°(T)/193°(M) radial north to the 18-mile DME on the SEA VORTAC 335°(T)/316°(M) radial to the point of beginning, excluding that airspace in the areas A through G.

Area I. That airspace extending upward from 4,000 feet MSL to and including 10,000 feet MSL within an area bounded by a point 47°48′13″/122°27′59″ (SEA 344°(T)/325°(M) at 23NM), clockwise to a point 47°47′59″/122°08′02″ (SEA 018°(T)/359°(M) radial at 23NM), to a point 47°44′31″/122°07′00″ (SEA 023°(T)/004°(M) radial at 20NM), to a point 47°44′39″/122°29′41″ (SEA 338°(T)/319°(M) radial at 20NM) to the point of beginning.

Area J. That airspace extending upward from 5,000 feet MSL to and including 10,000 feet MSL within an area bounded by a point 47°39′31″/122°05′41″ (SEA 033°(T)/014°(M) at 16NM), clockwise to a point 47°37′49″/121°59′59″ (SEA 047°(T)/028°(M) radial at 17.2NM), to a point 47°17′36″/122°00′04″ (124°(T)/105°(M) radial at 15.2NM), to a point 47°17′38″/122°06′07″ (SEA 135°(T)/116°(M) radial at 12NM) to the point of beginning.

Area K. That airspace extending upward from 5,000 feet MSL to and including 10,000 feet MSL within an area bounded by: a point 47°38′53″/122°36′14″ (SEA 317°(T)/298°(M) radial at 17.5NM), to a point 47°13′24″/122°30′14″ (SEA 212°(T)/193°(M) radial at 15NM), to a point 47°16′09″/122°36′01″ (SEA 230°(T)/211°(M) radial at 15.5NM) to the point of beginning.

Area L. That airspace extending upward from 6,000 feet MSL to and including 10,000 feet MSL within an area bounded by a point 47°39′00″/122°43′03″ (SEA 308°(T)/289°(M) radial at 21NM), clockwise to a point 47°38′53″/122°36′14″ (SEA 317°(T)/298°(M) radial at 17.5NM), to a point 47°16′09″/122°36′01″ (SEA 230°(T)/211°(M) radial at 15.5NM), to a point 47°18′46″/122°42′45″ (SEA 246°(T)/227°(M) radial at 18NM) to the point of beginning.

Area M. That airspace extending upward from 6,000 feet MSL to and including 10,000 feet MSL within an area bounded by a point 47°37′49″/121°59′59″ (SEA 047°(T)/028°(M) radial at 17.2NM), clockwise to a point 47°36′45″/121°56′03″ (SEA 055°(T)/036°(M) radial at 18.6NM), to a point 47°35′39″/121°51′58″ (SEA 062°(T)/043°(M) radial at 20.4NM), to a point 47°18′18″/121°51′40″ (SEA 113°(T)/094°(M) radial at 19.9NM), to a point 47°17′28″/121°55′42″ (SEA 119°(T)/100°(M) radial at 17.8NM), to a point 47°17′36″/122°00′04″ (SEA 124°(T)/105°(M) radial at 15.2NM) to the point of beginning.

Area N. That airspace extending upward from 4,000 feet MSL to and including 10,000 feet MSL within an area bounded by: a point 47°09′13″/122°27′36″ (SEA 200°(T)/181°(M) radial at 18NM), clockwise to a point 47°09′17″/122°08′06″ (SEA 157°(T)/138°(M) radial at 18.3NM), to a point 47′06′16″/122°08′34″ (SEA 161°(T)/142°(M) radial at 21NM), to a point 47°06′20″/122°26′21″ (SEA 195°(T)/176°(M) radial at 20.5NM to the point of beginning.

Area O. That airspace extending upward from 5,000 feet MSL to and including 7000 feet MSL within an area bounded by a point 47°18′46″/122°42′45″ (SEA 246°(T)/227°(M) radial at 18NM), clockwise to a point 47°16′09″/122°36′01″ (SEA 230°(T)/211°(M) radial at 15.5NM), to a point 47°13′24″/122°30′14″ (SEA 212°(T)/193°(M) radial at 15NM), to a point 47°09′13″/122°27′36″ (SEA 200°(T)/181°(M) radial at 18NM), to a point 47°06′20″/122°26′21″ (SEA 195°(T)/176°(M) radial at 20.5NM), to a point 47°02′35″/122°30′26″ (SEA 199°(T)/180°(M) radial at 24.9NM), to a point 47°10′55″/122°40′04″ (SEA 224°(T)/205°(M) radial at 21.1NM) to the point of beginning.

Area P. That airspace extending upward from 5,000 feet MSL to and including 7000 feet MSL within an area bounded by: a point 47°17′38″/122°06′07″ (SEA 135°(T)/116°(M) radial at 12NM), clockwise to a point 47°17′36″/122°00′04″ (SEA 124°(T)/105°(M) radial at 15.2NM), to a point 47°17′28″/121°55′42″ (SEA 119°(T)/100°(M) radial at 17.8NM), to a point 47°14′03″/121°58′57″ (SEA 132°(T)/113°(M) degree radial at 18NM), to a point 47°11′46″/121°58′59″ (SEA 137°(T)/118°(M) radial at 19.6NM), to a point 47°02′38″/122°06′04″ (SEA 160°(T)/141°(M) radial at 25NM), to a point 47°06′16″/122°08′34″ (SEA 161°(T)/142°(M) radial at 21NM), to a point 47°09′17″/122°08′06″ (SEA 157°(T)/138°(M) degree radial at 18.3NM) to the point of beginning.

Area Q. That airspace extending upward from 5,000 feet MSL to and including 7,000 feet MSL within an area bounded by: a point 47°51′15″/122°30′00″ (SEA 343°(T)/324°(M) radial at 26.3NM), clockwise to a point 47°51′09″/122°05′46″ (SEA 019°(T)/360°(M) radial at 26.5NM), to a point 47°41′54′/121°55′57″ (SEA 044°(T)/025°(M) radial at 22NM), to a point 47°36′45″/121°56′03″ (SEA 055°(T)/036°(M) radial at 18.6NM), to a point 47°37′49″/121°59′59″ (SEA 047°(T)/028°(M) radial at 17.2NM), to a point 47°39′31″/122°05′41″ (SEA 033°(T)/014°(M) radial at 16NM), to a point 47°44′31″/122°07′00″ (SEA 023°(T)/004°(M) radial at 20NM), to a point 47°47′59″/122°08′02″ (SEA 018°(T)/359°(M) radial at 23NM) to a point 47°48′13″/122°27′59″ (SEA 344°(T)/325°(M) radial at 23NM), to a point 47°44′39″/122°29′41″ (SEA 338°(T)/319°(M) radial at 20NM), to a point 47°42′25″/122°29′50″ (SEA 335°(T)/316°(M) radial at 18NM), to a point 47°38′53″/122°36′14″ (SEA 317°(T)/298°(M) radial at 17.5NM), to a point 47°39′00″/122°43′03″ (SEA 308°(T)/289°(M) radial at 21NM) to the point of beginning.

Area R. That airspace extending upward from 6,000 feet MSL to and including 7,000 feet MSL within an area bounded by a point 47°55′27″/122°27′04″ (SEA 349°(T)/330°(M) radial 29.9NM), clockwise to a point 47°55′31″/122°08′29″ (SEA 013°(T)/354°(M) radial at 30.2NM), to a point 47°51′09″/122°05′46″ (SEA 019°(T)/360°(M) radial at 26.5NM), to a point 47°51′15″/122°30′00″ (SEA 343°(T)/324°(M) radial at 26.3NM) to the point of beginning.

Area S. That airspace extending upward from 5,000 feet MSL to and including 10,000 feet MSL within an area bounded by a point 47°06′20″/122°26′21″ (SEA 195°(T)/176°(M) radial at 20.5NM), clockwise to a point 47°06′16″/122°08′34″ (SEA 161°(T)/142°(M) radial at 21NM), to a point 47°02′38″/122°06′04″ (SEA 160°(T)/141°(M) radial at 25NM), to a point 47°02′35″/122°30′26″ (SEA 199°(T)/180°(M) radial at 24.9NM) to the point of beginning.

Area T. That airspace extending upward from 6,000 feet MSL to and including 7,000 feet MSL within an area bounded by a point 47°02′35″/122°30′26″ (SEA 199°(T)/180°(M) radial at 24.9NM), clockwise to a point 47°02′38″/122°06′04″ (SEA 160°(T)/141°(M) radial at 25NM), to a point 46°57′13″/122°08′03″ (SEA 166°(T)/147°(M) radial at 29.8NM), to a point 46°57′05″/122°27′35″ (SEA 192°(T)/173°(M) radial at 29.7NM) to the point of beginning.

Issued in Washington, DC, on June 13, 2011.
Gary Norek,
Acting Manager, Airspace, Regulations and ATC Procedures Group.

BILLING CODE 4910-13-P

[FR Doc. 2011-15120 Filed 6-16-11; 8:45 am]

BILLING CODE 4910-13-C